UNITED STATES INSTITUTE OF PEACE

Notice of Meeting

AGENCY: United States Institute of Peace.

Date/Time: Thursday, January 26, 2012 (9 a.m. — 4:30 p.m.).

Location: 2301 Constitution Avenue NW., Washington, DC 20037.

Status: Open Session—Portions may be closed pursuant to Subsection (c) of Section 552(b) of Title 5, United States Code, as provided in subsection 1706(h)(3) of the United States Institute of Peace Act, Public Law 98-525.

Agenda: January 26, 2012 Board Meeting; Approval of Minutes of the One Hundred Forty-First Meeting (September 22, 2011) of the Board of Directors; Chairman's Report; President's Report; Overview of Budget and Congress; Academy Recruitment Strategy; Peace Technology Report; Evaluation Report and Discussion; Board Executive Session; Other General Issues.

Contact: Tessie F. Higgs, Executive Office, Telephone: (202) 429-3836.

Dated: January 6, 2012.
Michael B. Graham,
Senior Vice President for Management and CFO, United States Institute of Peace.

[FR Doc. 2012-414 Filed 1-12-12; 8:45 am]

BILLING CODE 6820-AR-M